DEPARTMENT OF COMMERCE:

National Oceanic and Atmospheric Administration

[RTID 0648-XE562]

Gulf of Mexico Fishery Management Council; Public Meeting

AGENCY: National Marine Fisheries Service (NMFS), National Oceanic and Atmospheric Administration (NOAA), Commerce.

ACTION: Notice of hybrid meeting open to the public offering both in-person and virtual options for participation.

SUMMARY: The Gulf of Mexico Fishery Management Council (Council) will hold a four-day meeting to consider actions affecting the Gulf of Mexico fisheries in the exclusive economic zone (EEZ).

DATES: The meeting will convene Monday, January 27 through Thursday, January 30, 2025. Daily schedule will be 8:30 a.m.-5:30 p.m., CST Monday and Wednesday and 8:30 a.m. to 5 p.m., CST on Tuesday and Thursday.

ADDRESSES: The meeting will take place at the Renaissance New Orleans Pere Marquette French Quarter, located at 817 Common Street, New Orleans, LA 70112. If you prefer to “listen in”, you may access the log-in information by visiting our website at www.gulfcouncil.org.

Council address: Gulf of Mexico Fishery Management Council, 4107 W. Spruce Street, Suite 200, Tampa, FL 33607; telephone: (813) 348-1630.

FOR FURTHER INFORMATION CONTACT: Dr. Carrie Simmons, Executive Director, Gulf of Mexico Fishery Management Council; telephone: (813) 348-1630.

SUPPLEMENTARY INFORMATION:

Monday, January 27, 2025; 8:30 a.m.-5:30 p.m., CST

Committee Sessions will begin with the Administrative/Budget Committee review and discussion of Proposed 2025 Activities and Budget and receive update on 2020-2024 Administrative Award No Cost Extension Request and Inflation Reduction Act Funding. The Committee will Review Advisory Panel appointments for Data Collection, Spiny Lobster, and Coral. The Habitat Protection & Restoration Committee will receive updates on Essential Fish Habitat (EFH) Generic Amendment 5 and Programmatic Environmental Impact Statement of Proposed Aquaculture Opportunity areas in the Gulf of Mexico and Draft Comment Letter. The Shrimp Committee will review Draft Shrimp Framework Action: Modification of the Vessel Position Data Collection Program for the Gulf of Mexico Shrimp Fishery and Shrimp Advisory Panel (AP) Recommendations, and review remaining meeting summary items from the December 16, 2024 Shrimp AP meeting.

Following lunch, the Mackerel Committee will receive a presentation on Gulf Stakeholder Coastal Migratory Pelagics (CMP) Engagement Meetings Summary Draft. The Committee will discuss Spanish Mackerel Framework Action and next steps and King Mackerel Document and next steps, including a presentation on King Mackerel Data Request Report, Framework Action and background of SEDAR 99 Draft Schedule. The Outreach and Education Technical Committee (OETC) will review 2024 Communications improvement Plan Progress and Analytics, Domestic Shrimp and Seafood Education and Ecosystem Based Fisheries Management Outreach Update on Red Tide Fishery Ecosystem Issues (FEI). The Committee will discuss Management Areas and Boundary Outreach, Public Comment Improvements, 2025 Communications Improvement Plan and remaining items from the O&E Technical Committee meeting summary.

Tuesday, January 28, 2025; 8:30 a.m.-5 p.m., CST

The Council will receive a Litigation update. Following, the Reef Fish Committee will convene to review and discuss Draft: Reef Fish Amendment 58B:

Modifications to Deep-water Grouper Management Measures, receive a presentation on Modifications to Lane Snapper Minimum Size and Recreational Bag Limits and Draft Reef Fish Amendment 59: Requirements for Participation in Individual Fishing Quota Programs. The Committee will review Draft Framework: Other Shallow-water Grouper Catch Limits, receive a summary from the December 2024 Gulf SSC Webinar and remaining Reef Fish AP Discussions and Recommendations.

Wednesday, January 29, 2025; 8:30 a.m.-5:30 p.m., CST

The Reef Fish Committee will reconvene to review summary reports from Working Group 1 & 2 for the Recreational Initiative and Public Engagement Sessions and receive a presentation on Recreational Red Snapper Accountability Measures. The Law Enforcement Technical Committee (LETC) will review the meeting summary from the January 2025 meeting.

Following lunch, the Council will convene at approximately 1:30 p.m., CST with a Call to Order, Announcements and Introductions, Adoption of Agenda and Approval of Minutes. The Council will receive a presentation on Stock Assessments 101: Spawning Potential Ratio and Maximum Sustainable Yield. The Council will hold public testimony beginning at 2 p.m. to 5 p.m., CST for comments for open testimony on other fishery issues or concerns. Public comment may begin earlier than 2 p.m. CST but will not conclude before that time. Persons wishing to give public testimony in-person must register at the registration kiosk in the meeting room. Persons wishing to give public testimony virtually must sign up on the Council website during the Council meeting. Registration for virtual testimony closes one hour (1 p.m. CST) before public testimony begins.

Thursday, January 30, 2025; 8:30 a.m.-5 p.m., CST

The Council will receive Committee reports from Administrative/Budget, Habitat Protection & Restoration, Shrimp, Mackerel, Outreach and Education, Reef Fish, and Law Enforcement. The Council will receive updates from the following supporting agencies: South Atlantic Fishery Management Council Liaison; Louisiana Law Enforcement Efforts, NOAA Office of Law Enforcement (OLE); Gulf States Marine Fisheries Commission; U.S. Coast Guard; U.S. Fish and Wildlife Service; and Department of State.

Lastly, the Council will hold a discussion on Council Planning and Primary Activities, and any Other Business items.

-Meeting Adjourns

The meeting will be a hybrid meeting; both in-person and virtual participation available. You may register for the webinar to listen-in only by visiting www.gulfcouncil.org and click on the Council meeting on the calendar.

The timing and order in which agenda items are addressed may change as required to effectively address the issue, and the latest version along with other meeting materials will be posted on the website as they become available.

Although other non-emergency issues not contained in this agenda may come before this group for discussion, in accordance with the Magnuson-Stevens Fishery Conservation and Management Act (Magnuson-Stevens Act), those issues may not be the subject of formal action during these meetings. Actions will be restricted to those issues specifically listed in this notice and any issues arising after publication of this notice that require emergency action under Section 305(c) of the Magnuson-Stevens Act, provided that the public has been notified of the Council's intent to take final action to address the emergency.

Special Accommodations

These meetings are physically accessible to people with disabilities. Requests for sign language interpretation or other auxiliary aid or accommodations should be directed to Kathy Pereira, (813) 348-1630, at least 15 days prior to the meeting date.

Authority: 16 U.S.C. 1801 et seq.

Dated: December 20, 2024.
Rey Israel Marquez,
Acting Deputy Director, Office of Sustainable Fisheries, National Marine Fisheries Service.

[FR Doc. 2024-31036 Filed 12-26-24; 8:45 am]

BILLING CODE 3510-22-P